DEPARTMENT OF TRANSPORTATION

Federal Aviation Administration

14 CFR Part 39

[Docket No. FAA-2013-0023; Directorate Identifier 96-CE-072-AD; Amendment 39-17688; AD 99-01-05 R1]

RIN 2120-AA64

Airworthiness Directives; Various Aircraft Equipped With Wing Lift Struts

AGENCY: Federal Aviation Administration (FAA), DOT.

ACTION: Final rule; correction.

SUMMARY: The FAA is correcting an airworthiness directive (AD) that published in the Federal Register. That AD applies to certain aircraft equipped with wing lift struts. The list of affected airplanes in the Applicability section is incorrect. Several Piper Aircraft, Inc. Model PA-18 airplanes were inadvertently omitted from the final rule; however, those models were included in the notice of proposed rulemaking. This document corrects that error. In all other respects, the original document remains the same.

DATES: This final rule is effective January 14, 2014.

ADDRESSES: You may examine the AD docket on the Internet at http://www.regulations.gov by searching for and locating it in Docket No. FAA-2013-00023; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: For Piper Aircraft, Inc. airplanes, contact: Gregory “Keith” Noles, Aerospace Engineer, FAA, Atlanta Aircraft Certification Office, 1701 Columbia Avenue, College Park, Georgia 30337; phone: (404) 474-5551; fax: (404) 474-5606; email: gregory.noles@faa.gov.

For FS 2000 Corp, FS 2001 Corp, FS 2002 Corporation, and FS 2003 Corporation airplanes, contact: Jeff Morfitt, Aerospace Engineer, FAA, Seattle Aircraft Certification Office, 1601 Lind Avenue SW., Renton, Washington 98057; phone: (425) 917-6405; fax: (245) 917-6590; email: jeff.morfitt@faa.gov.

For LAVIA ARGENTINA S.A. (LAVIASA) airplanes, contact: S.M. Nagarajan, Aerospace Engineer, FAA, Small Airplane Directorate, 901 Locust, Room 301, Kansas City, Missouri 64106; telephone: (816) 329-4145; fax: (816) 329-4090; email: sarjapur.nagarajan@faa.gov.

SUPPLEMENTARY INFORMATION: Airworthiness Directive 99-01-05 R1, Amendment 39-17688 (78 FR 73997, December 10, 2013), will require repetitively inspecting the wing lift struts for corrosion; repetitively inspecting the wing lift strut forks for cracks; replacing any corroded wing lift strut; replacing any cracked wing lift strut fork; repetitively replacing the wing lift strut forks at a specified time for certain airplanes; and incorporating a “NO STEP” placard on the wing lift strut.

As published, table 1 of paragraph (c) in the Applicability section is incorrect. Several Piper Aircraft, Inc. Model PA-18 airplanes were inadvertently omitted from the final rule; however, those models were included in the notice of proposed rulemaking that was published in the Federal Register on January 16, 2013 (78 FR 3356).

No other part of the preamble or regulatory information has been changed; therefore, only the changed portion of the final rule is being published in the Federal Register.

The effective date of this AD remains January 14, 2013.

Correction of Regulatory Text

§ 39.13 [Corrected]

In the Federal Register of December 10, 2013, on page 73999, in Table 1 to Paragraph (c) of this AD—Applicability, paragraph (c) of AD 99-01-05 R1; Amendment 39-17688 is corrected as follows:

* * * * *

Table 1 to Paragraph (c) of This AD—Applicability
Type certificate holder | Aircraft model | Serial numbers
FS 2000 Corp | L-14 | All.
FS 2001 Corp | J5A (Army L-4F), J5A-80, J5B (Army L-4G), J5C, AE-1, and HE-1 | All.
FS 2002 Corporation | PA-14 | 14-1 through 14-523.
FS 2003 Corporation | PA-12 and PA-12S | 12-1 through 12-4036.
LAVIA ARGENTINA S.A. (LAVIASA) | PA-25, PA-25-235, and PA-25-260 | 25-1 through 25-8156024.
Piper Aircraft, Inc. | TG-8 (Army TG-8, Navy XLNP-1) | All.
Piper Aircraft, Inc. | E-2 and F-2 | All.
Piper Aircraft, Inc. | J3C-40, J3C-50, J3C-50S, (Army L-4, L-4B,L-4H, and L-4J), J3C-65 (Navy NE-1 and NE-2), J3C-65S, J3F-50, J3F-50S, J3F-60, J3F-60S, J3F-65 (Army L-4D), J3F-65S, J3L, J3L-S, J3L-65 (Army L-4C), and J3L-65S | All.
Piper Aircraft, Inc. | J4, J4A, J4A-S, and J4E (Army L-4E) | 4-401 through 4-1649.
Piper Aircraft, Inc. | PA-11 and PA-11S | 11-1 through 11-1678.
Piper Aircraft, Inc. | PA-15 | 15-1 through 15-388.
Piper Aircraft, Inc. | PA-16 and PA-16S | 16-1 through 16-736.
Piper Aircraft, Inc. | PA-17 | 17-1 through 17-215.
Piper Aircraft, Inc. | PA-18, PA-18S, PA-18 “105” (Special), PA-18S “105” (Special), PA-18A, PA-18 “125” (Army L-21A), PA-18S “125”, PA-18AS “125”, PA-18 “135” (Army L-21B), PA-18A “135”, PA-18S “135”, PA-18AS “135”, PA-18 “150”, PA-18A “150”, PA-18S “150”, PA-18AS “150”, PA-18A (Restricted), PA-18A “135” (Restricted), and PA-18A “150” (Restricted) | 18-1 through 18-8309025, 18900 through 1809032, and 1809034 through 1809040.
Piper Aircraft, Inc. | PA-19 (Army L-18C), and PA-19S | 19-1, 19-2, and 19-3.
Piper Aircraft, Inc. | PA-20, PA-20S, PA-20 “115”, PA-20S “115”, PA-20 “135”, and PA-20S “135” | 20-1 through 20-1121.
Piper Aircraft, Inc. | PA-22, PA-22-108, PA-22-135, PA-22S-135, PA-22-150, PA-22S-150, PA-22-160, and PA-22S-160 | 22-1 through 22-9848.

* * * * *

Issued in Kansas City, Missouri, on December 18, 2013.
Earl Lawrence,
Manager, Small Airplane Directorate, Aircraft Certification Service.

[FR Doc. 2013-30859 Filed 12-30-13; 8:45 am]

BILLING CODE 4910-13-P